DEPARTMENT OF AGRICULTURE

Forest Service

Pacific Northwest Region Recreation Advisory Committee

AGENCY: Forest Service, USDA.

ACTION: Call for nominations to the Pacific Northwest Region Recreation Resource Advisory Committee.

SUMMARY: The United States Department of Agriculture (USDA) is seeking nominations for the Pacific Northwest Region Recreation Advisory Committee (Recreation RAC) pursuant to the Federal Lands Recreation Enhancement Act (REA) and the Federal Advisory Committee Act (FACA). Additional information on the Recreation RAC can be found by visiting the Recreation RAC's website at: https://www.fs.usda.gov/detail/r6/passes-permits/recreation/?cid=fsbdev2_026879.

DATES: Nominations must be received on or before April 9, 2020. The timeframe may be extended if officials do not receive applications for vacancies. Nominations must contain a completed application packet that includes the nominee's name, a narrative statement on each Nominee Evaluation Criteria, and completed Form AD-755, Advisory Committee or Research and Promotion Background Information. The package must be sent to the addresses below.

ADDRESSES: Interested persons may submit nominations packets by U.S. Mail to the Forest Service Pacific Northwest Regional Office, 1220 Southwest 3rd Avenue, Post Office Box 3623, Portland, Oregon 97204-2825, Attention: Krystal Fleeger or by Express Delivery to the Forest Service Pacific Northwest Regional Office, 1220 Southwest 3rd Avenue, 17th Floor, Portland, Oregon 97204-2825, Attention: Krystal Fleeger.

FOR FURTHER INFORMATION: Tracy Tophooven, Recreation RAC Designated Federal Officer, Pacific Northwest Region, USDA Forest Service, 1220 Southwest 3rd Avenue, 17th Floor, Portland, Oregon 97204-2825; by phone at (503) 808-2919, or by email at R6_Recreation_RAC@fs.fed.us.

SUPPLEMENTARY INFORMATION:

Background

In accordance with the provisions of FACA, the Secretary of Agriculture is seeking nominations for the purpose of providing recommendations on recreation fees. The Federal Lands Recreation Enhancement Act (REA), signed in December 2004, directs the Secretary of Agriculture, the Secretary of the Interior, or both to establish Recreation RACs, or use existing advisory committees to perform the duties of Recreation RACs, in each State or region for Federal recreation lands and waters managed by the Forest Service or the Bureau of Land Management (BLM). These committees make recreation fee program recommendations on implementing or eliminating standard amenity fees; expanded amenity fees; and noncommercial, individual special recreation permit fees; expanding or limiting the recreation fee program; and fee-level changes.

The REA grants flexibility to Recreation RACs by stating that the Secretaries:

• May have as many additional Recreation RACs in a State or region as the Secretaries consider necessary;

• Shall not establish a Recreation RAC in a State if the Secretaries determine, in consultation with the Governor of the State, that sufficient interest does not exist to ensure that participation on the committee is balanced in terms of the points of view represented and the functions to be performed; or

• May use a resource advisory committee established pursuant to another provision of law and in accordance with that law.

Recreation Resource Advisory Committee Membership

The Pacific Northwest Region Recreation RAC shall be comprised of no more than 11 members. Members will be appointed by the Secretary of Agriculture to serve two to three-year terms. Committee membership will be fairly balanced in terms of the points of view represented and functions to be performed. The Pacific Northwest Region Recreation RAC shall include representation in the following areas:

(1) Five persons who represent recreation users and that include, as appropriate, persons representing—

(a) Camping;

(b) Wildlife Viewing/Visiting Interpretive Sites;

(c) Summer motorized recreation such as motorcycling, boating, and off-highway vehicle driving;

(d) Summer nonmotorized recreation such as backpacking, horseback riding, mountain biking, canoeing, and rafting; and

(e) Hunting and fishing.

(2) Three persons who represent interest groups that include, as appropriate—

(a) Motorized/Non-motorized outfitters and guides;

(b) Motorized/Non-motorized outfitters and guides; and

(c) Local environmental groups.

(3) Three persons who are—

(a) State tourism official representing the State;

(b) A representative of affected Indian tribes; and

(c) A representative of affected local government interests.

In the event that a vacancy arises, the Designated Federal Officer (DFO) may fill the vacancy in the manner in which the original appointments were made. In accordance with REA, members of the Recreation RAC shall serve without compensation. Recreation RAC members may be allowed travel expenses and per diem for attendance at committee meetings, subject to approval of the DFO responsible for adminstrative support to the Recreation RAC.

Nominations and Application Information

The appointment of members to the Recreation RAC will be made by the Secretary of Agriculture. The public is invited to submit nomimations for membership on the Recreation RAC, either as a self-nomination or a nomination of any qualified and interested person. Any individual or organization may nominate one or more qualified persons to represent the interest areas listed above. To be considered for membership, nominees must:

1. Identify what interest group they would represent and how they are qualified to represent that group;

2. State why they want to serve on the committee and what they can contribute;

3. Provide an attachment showing their past experience in working successfully as part of a collaborative group; and

4. Complete an application packet, including evaluation criteria, and Form AD-755, Advisory Committee or Research and Promotion Background Information. The packet may be obtained by contacting Tracy Tophooven, Recreation RAC Designated Federal Officer, Pacific Northwest Region, USDA Forest Service, 1220 Southwest 3rd Avenue, 17th Floor, Portland, Oregon 97204-2825; by phone at (503) 808-2919, or by email at R6_Recreation_RAC@fs.fed.us. The packet can also be found by visiting the following website: https://www.fs.usda.gov/detail/r6/passes-permits/recreation/?cid=fsbdev2_026879. Nominations and completed applications for the Recreation RAC should be sent to the DFO. All nominations will be vetted by the Agency.

Equal opportunity practices in accordance with USDA policies shall be followed in all appointments to the Pacific Northwest Region Recreation RACs. To ensure that the recommendations of the Recreation RAC have taken into account the needs of the diverse groups served by USDA, membership will, to the extent practicable, include individuals with demonstrated ability to represent all racial and ethnic groups, women and men, and persons with disabilities.

Dated: February 26, 2020.
Cikena Reid,
Committee Management Officer, USDA.

[FR Doc. 2020-04783 Filed 3-9-20; 8:45 am]

BILLING CODE 3411-15-P